DEPARTMENT OF EDUCATION

Office of Innovation and Improvement; Overview Information; Transition to Teaching Grant Program; Notice Inviting Applications for New Awards for Fiscal Year (FY) 2006

Catalog of Federal Domestic Assistance (CFDA) Number: 84.350A, 84.350B, and 84.350C.

Dates: Applications Available: January 27, 2006. Deadline for Notice of Intent to Apply: February 21, 2006. Deadline for Transmittal of Applications: March 20, 2006. Deadline for Intergovernmental Review: May 19, 2006.

Eligible Applicants: A State educational agency (SEA); a high-need local educational agency (LEA); a for-profit or nonprofit organization that has a proven record of effectively recruiting and retaining highly qualified teachers, in a partnership with a high-need LEA or an SEA; an institution of higher education (IHE), in a partnership with a high-need LEA or an SEA; a regional consortium of SEAs; or a consortium of high-need LEAs. For further information on whether an LEA qualifies as a “high-need LEA,” see section III. 1. Eligible Applicants in this notice.

Estimated Available Funds: $5-6 million. The Department has established separate funding categories for projects of different scope. These categories are:

(1) National/regional projects (84.350C) that serve eligible high-need LEAs in more than one State;

(2) Statewide projects (84.350B) that serve eligible high-need LEAs statewide or eligible high-need LEAs in more than one area of a State; and

(3) Local projects (84.350A) that serve one eligible high-need LEA or two or more eligible high-need LEAs in a single area of a State.

Estimated Range of Awards: National/regional projects—$300,000-$1,000,000 per year; Statewide projects—$150,000-$600,000 per year; and Local projects—$100,000-$400,000 per year.

Estimated Average Size of Awards: National/regional projects—$750,000 per year; Statewide projects—$375,000 per year; and Local projects—$225,000 per year.

Estimated Number of Awards: National/regional projects—2; Statewide projects—5; and Local projects—10.

Note: The Department is not bound by any estimates in this notice.

Project Period: Up to 60 months. Full Text of Announcement

I. Funding Opportunity Description

Purpose of Program: The Transition to Teaching program encourages (1) the development and expansion of alternative routes to full State teacher certification, as well as (2) the recruitment and retention of highly qualified mid-career professionals, recent college graduates who have not majored in education, and highly qualified paraprofessionals as teachers in high-need schools operated by high-need LEAs, including charter schools that operate as high-need LEAs.

Priorities: The Department has established three competitive preference priorities and one invitational priority that are explained in the following paragraphs. One competitive preference priority is from the statute for this program and the other two competitive preference priorities are from the notice of final priorities and requirements for this program, published in the Federal Register on April 30, 2004 (69 FR 24002, 24005)(NFP).

Competitive Preference Priorities: For FY 2006, these priorities are competitive preference priorities. Under 34 CFR 75.105(c)(2)(i), we award 5 additional points to an application that meets Competitive Preference Priority 1, and up to an additional 20 points to an application, depending on how well the application meets either Competitive Preference Priority 2 or 3. These points are in addition to any points the application earns under the program's selection criteria.

These priorities are:

Competitive Preference Priority 1—Partnerships or Consortia That Include a High-Need LEA or a High-Need SEA

In accordance with 34 CFR 75.105(b)(2)(iv), this priority is from section 2313(c) of the Elementary and Secondary Education Act of 1965, as amended (ESEA) (20 U.S.C. 6683(c)). This priority supports projects that are designed and implemented in active partnerships or consortia that include at least one high-need LEA or high-need SEA.

Competitive Preference Priority 2—State Projects To Create or Expand, and Then Implement, Alternative Pathways to Teacher Certification

This priority is from the NFP (69 FR 24002, 20005). This priority supports projects designed and implemented by an SEA or a consortium of SEAs and the respective teacher certification agency of each State (if different from the SEA) to create or expand, and then implement, alternative pathways to certification. The project period is up to five years. Grantees will need to conduct both of the following activities:

(a) Create alternatives to the State's traditional certification requirements. In conducting this activity, States are encouraged to develop a variety of alternative pathways to certification as important options in their menu of State-approved procedures for teacher certification and licensure. For example, competency-based alternative routes would permit talented individuals interested in teaching to become fully certified through rigorous assessments of their content and professional teaching competence, thereby enabling LEAs to recruit from a larger and more talented pool of prospective teachers.

(b) Use the alternative routes to recruit individuals from groups eligible to participate in the Transition to Teaching program. Funded projects also would, among other things, need to work with participating high-need LEAs to—

(1) Increase the number and quality of mid-career changers, recent college graduates who have not majored in education, and qualified paraprofessionals recruited to teach high-need subjects (such as mathematics, science, and special education) in identified high-need LEAs (which may include LEAs that are charter schools), particularly those in urban and rural areas; and

(2) Provide these newly hired teachers with the support they need to become certified and effective teachers who will choose to make teaching their new long-term profession.

In particular, SEAs receiving project funds must—

(i) Target recruitment efforts on, and rigorously screen, candidates in areas where participating high-need LEAs have documented teacher shortages (e.g., mathematics, science, and special education);

(ii) Place prospective teachers only in high-need schools operated by high-need LEAs;

(iii) Prepare individuals for specific positions in specific LEAs and place them in these positions early in the training process;

(iv) Ensure that recruited teachers receive the specific training they need to become fully certified or licensed teachers; and

(v) Have recruited teachers participate in a well-supervised induction period that may include the support of experienced, trained mentors.

Note: Applicants that choose to respond to Competitive Preference Priority 2 may do so however they choose. Those who respond to this priority may want to consider addressing such key factors as: (1) The data and other information the State has used to assess how and the extent to which current State certification requirements inhibit talented individuals from entering teaching; (2) the level of commitment of State leaders and policymakers to developing new or enhanced alternative certification requirements; (3) the State's statutory and regulatory authority to implement alternative pathways to certification; (4) how the SEA and other participating State agencies will actively involve all stakeholders with responsibility or authority for teacher preparation, hiring, and retention; and (5) a timeline for major actions that the SEA and other participating State agencies intend to implement to develop new or improved alternative pathways to teacher certification.

Competitive Preference Priority 3—District Projects to Streamline Teacher Hiring Systems, Timelines, and Processes

This priority is from the NFP (69 FR 24002, 20005). The priority supports projects by one or more LEAs to streamline their hiring systems, timelines, and processes. The project period is up to five years. A participating high-need LEA will need to conduct both of the following activities:

(a) Examine its current hiring system, processes, and policies to identify the critical barriers to hiring highly qualified teachers. The lack of highly qualified teachers in most urban and rural LEAs has often been attributed to their difficulty in recruiting interested and qualified individuals. However, recent research indicates that the problem may not be one of recruitment but may stem from inefficient and untimely LEA hiring systems and processes. This is especially true in high-poverty LEAs and schools—the very LEAs and schools the Transition to Teaching program is targeted to serve. Accordingly, each participating LEA will need to examine its current hiring processes and policies and, based upon that examination, identify the critical barriers to hiring highly qualified teachers.

(b) Design and implement efforts to remove the identified barriers and put in place systems that streamline and revamp the hiring process. In conducting this activity, LEAs are encouraged to create an efficient and timely applicant hiring process with a strong data tracking system and clear hiring goals. These efforts also should involve negotiating policy reforms that remove critical barriers, such as delayed notification of vacancies and seniority and retirement rules.

Participating LEAs also will carry out the requirements of the Transition to Teaching program by recruiting nontraditional candidates, using the streamlined hiring system to hire these individuals for teaching in high-need schools, working with them to achieve full State certification, and retaining them for at least three years.

Note: Applicants that choose to respond to Competitive Preference Priority 3 may do so however they choose. Those that respond to this priority may want to consider addressing such key factors as: (1) The existing barriers to early notification and hiring of new teachers; (2) the active engagement of LEA officials, teacher unions, and other stakeholders in developing a plan to remove existing barriers and implementing changes; (3) the actions each participating LEA intends to undertake to implement policies and systems for early notification and hiring of new teachers; and (4) a timeline for major action steps that each participating LEA intends to implement to develop the new hiring policies and systems.

Under this competition, we are particularly interested in applications that address the following priority. Invitational Priority: For FY 2006 this priority is an invitational priority. Under 34 CFR 75.105(c)(1) we do not give an application that meets this invitational priority a competitive or absolute preference over other applications.

This priority is:

Invitational Priority—Recruitment and Retention of Teachers of Mathematics or Science at the High School Level

This priority supports projects that focus on the recruitment, preparation, placement, support, and retention of mid-career professionals, including highly qualified paraprofessionals, and recent college graduates who did not major in education to serve as mathematics or science teachers in high schools that are high-need schools in high-need LEAs.

Note: Applicants are encouraged to identify high-need high schools in high-need LEAs with a shortage of mathematics or science teachers, and recruit qualified individuals as teachers for these schools. In addition, applicants are encouraged to address how their efforts to recruit and retain mathematics and science teachers through the Transition to Teaching program can support other reform efforts in the high-need schools and districts to improve the quality of instruction in mathematics, science, and high schools in general.

Note: The NFP includes definitions for terms used in these priorities, including “highly qualified paraprofessional,” “high-need subject,” and “high-need SEA.”

Program Authority: 20 U.S.C. 6681-6684.

Applicable Regulations: (a) The Education Department General Administrative Regulations (EDGAR) in 34 CFR parts 74, 75, 77, 79, 80, 81, 82, 84, 85, 86, 97, 98 and 99. (b) The notice of final priorities and requirements for this program published in the Federal Register on April 30, 2004 (69 FR 24002).

Note: The regulations in 34 CFR part 86 apply to IHEs only.

II. Award Information

Type of Award: Discretionary grants.

Estimated Available Funds: $5-6 million. The Department has established separate funding categories for projects of a different scope. These categories are:

(1) National/regional projects (84.350C) that serve eligible high-need LEAs in more than one State;

(2) Statewide projects (84.350B) that serve eligible high-need LEAs statewide or eligible high-need LEAs in more than one area of a State; and

(3) Local projects (84.350A) that serve one eligible high-need LEA or two or more eligible high-need LEAs in a single area of a State.

Estimated Range of Awards: National/regional projects—$300,000-$1,000,000 per year; Statewide projects—$150,000-$600,000 per year; and Local projects—$100,000-$400,000 per year.

Estimated Average Size of Awards: National/regional projects—$750,000 per year; Statewide projects—$375,000 per year; and Local projects—$225,000 per year.

Estimated Number of Awards: National/regional projects—2; Statewide projects—5; and Local projects—10.

Note: The Department is not bound by any estimates in this notice.

Project Period: Up to 60 months.

III. Eligibility Information

1. Eligible Applicants: An SEA; a high-need LEA; a for-profit or nonprofit organization that has a proven record of effectively recruiting and retaining highly qualified teachers, in a partnership with a high-need LEA or an SEA; an IHE, in a partnership with a high-need LEA or an SEA; a regional consortium of SEAs; or a consortium of high-need LEAs. Each application must identify participating LEAs that meet the definition of “high-need LEA” in section 2102(3) of the ESEA.

Note: Section 2102(3) of the ESEA defines a high-need LEA as an LEA—

(a) That serves not fewer than 10,000 children from families with incomes below the poverty line (as that term is defined in section 9101(33) of the ESEA), or for which not less than 20 percent of the children served by the LEA are from families with incomes below the poverty line; and

(b) For which there is (1) a high percentage of teachers not teaching in the academic subjects or grade levels that the teachers were trained to teach, or (2) a high percentage of teachers with emergency, provisional, or temporary certification or licensing.

The NFP describes how applicants must demonstrate that a participating LEA meets this statutory definition of “high-need LEA.” (See 69 FR 24002, 24006) Pursuant to the NFP, we provide the following supplementary information regarding the data applicants use to demonstrate eligibility as a “high-need LEA” under this competition:

As described in the NFP, absent a showing of alternative LEA data that reliably show the number of children from families with incomes below the poverty line that are served by the LEA, the eligibility of an LEA as a “high-need LEA” under component (a) of the definition must be determined on the basis of the most recent U.S. Census Bureau data. The most recent U.S. Census Bureau data can be found in the charts on the Internet at: http://www.census.gov/housing/saipe/sd03/ The Department examines the eligibility of any LEA not listed on these charts on a case-by-case basis.

As discussed in the NFP, with respect to component (b)(1) of the definition of “high-need LEA,” whether an LEA has a “high percentage of teachers not teaching in the academic subjects or grade levels that the teachers were trained to teach” is determined on a case-by-case basis.

In addition, as noted in the NFP, with respect to component (b)(2) of the definition of “high-need LEA,” an LEA has a “high percentage” of teachers with emergency, provisional, or temporary certification or licensing if the percentage of teachers on waivers, as the LEA reported to the State for purposes of the State's latest report to the Secretary under section 207 of the Higher Education Act of 1965 (HEA), was at least the national average percentage of teachers on waivers of State certification for all LEAs. As outlined in the NFP, the Secretary determines the national average percentage of teachers on waivers based on data contained in the most currently available HEA section 207 State reports. At the time of publication of this notice, the Department has received all 2005 State HEA section 207 reports and those reports reflect a national average percentage of teachers on waivers of State certification in all LEAs of 2.5 percent.

Because the Department is in the process of certifying all data received in the 2005 State HEA section 207 reports, the data in these reports, including the national average of teachers on waivers of State certification, are still provisional. However, to provide adequate time for the preparation and review of project applications and award of new grants before FY 2006 program funds lapse on September 30, 2006, the Department will use the 2.5 percent national average for purposes of this competition. Accordingly, an LEA will be considered to have met component (b)(2) of the definition of “high-need LEA” if the data that it provided to the State for purposes of the State's October 2005 HEA section 207 report demonstrate that at least 2.5 percent of its teachers were on waivers of State certification requirements.

2. Cost Sharing or Matching: This program does not involve cost sharing or matching but does involve supplement-not-supplant funding provisions. In accordance with section 2313(h)(2) of the ESEA, funds made available under this section shall be used to supplement, and not supplant, State and local public funds expended for teacher recruitment and retention programs, including programs to recruit the teachers through alternative routes to certification.

3. Other: The NFP describes eligibility restrictions for individuals participating in this program.

IV. Application and Submission Information

1. Address to Request Application Package

Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov.

If you request an application from ED Pubs, be sure to identify this competition as follows: CFDA number 84.350A, 84.350B, or 84.350C.

Individuals with disabilities may obtain a copy of the application package in an alternative format (e.g., Braille, large print, audiotape, or computer diskette) by contacting the program contact person listed under FOR FURTHER INFORMATION CONTACT in section VII of this notice.

2. Content and Form of Application Submission

Requirements concerning the content of an application, together with the forms you must submit, are in the application package for this competition. Additional information concerning application content requirements is in the NFP.

Notice of Intent to Apply: February 21, 2006.

The Department will be able to develop a more efficient process for reviewing grant applications if it has a better understanding of the number of entities that intend to apply for funding under this competition. Therefore, the Secretary strongly encourages each potential applicant to notify the Department by sending a short e-mail message indicating the applicant's intent to submit an application for funding. The e-mail need not include information regarding the content of the proposed application, only the applicant's intent to submit it. The Secretary requests that this e-mail notification be sent to Thelma Leenhouts at: transitiontoteaching@ed.gov. Applicants that fail to provide this e-mail notification may still apply for funding.

Page Limit: The application narrative (Part III of the application) is where you, the applicant, address the selection criteria that reviewers use to evaluate your application. Applicants must limit Part III to the equivalent of no more than 50 pages, using the following standards:

• A “page” is 8.5″ x 11″, on one side only, with 1″ margins at the top, bottom, and both sides.

• Double space (no more than three lines per vertical inch) all text in the application narrative, except titles, headings, footnotes, quotations, references, and captions, as well as all text in charts, tables, figures and graphs.

• Use a font that is either 12 point or larger or no smaller than 10 pitch (characters per inch).

The page limit does not apply to Part I, the cover sheet; Part II, the budget section, including the narrative budget justification; Part IV, the assurances and certifications; or the one-page abstract, curriculum vitae, or the bibliography of literature cited. However, you must include all of the application narrative in Part III.

Our reviewers will not read any pages of your application that—

• Exceed the page limit if you apply these standards; or

• Exceed the equivalent of the page limit if you apply other standards.

2. Submission Dates and Times

Applications Available: January 27, 2006.

Deadline for Notice of Intent to Apply: February 21, 2006.

Deadline for Transmittal of Applications: March 20, 2006.

Applications for grants under this competition must be submitted electronically using the Grants.gov Apply site (http://www.grants.gov). For information (including dates and times) about how to submit your application electronically or by mail or hand delivery if you qualify for an exception to the electronic submission requirement, please refer to section IV. 6. Other Submission Requirements in this notice.

We do not consider an application that does not comply with the deadline requirements.

Deadline for Intergovernmental Review: May 19, 2006.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice and in the NFP.

6. Other Submission Requirements: Applications for grants under this competition must be submitted electronically unless you qualify for an exception to this requirement in accordance with the instructions in this section.

a. Electronic Submission of Applications

Applications for grants under the Transition to Teaching Competition-CFDA Number 84.350A, 84.350B, and 84.350C must be submitted electronically using the Grants.gov Apply site at: http://www.grants.gov. Through this site, you will be able to download a copy of the application package, complete it offline, and then upload and submit your application. You may not e-mail an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for Transition to Teaching at: http://www.grants.gov. You must search for the downloadable application package for this program by the CFDA number. Do not include the CFDA number's alpha suffix in your search.

Please note the following:

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf

• To submit your application via Grants.gov, you must complete all of the steps in the Grants.gov registration process (see http://www.Grants.gov/GetStarted). These steps include (1) registering your organization, (2) registering yourself as an Authorized Organization Representative (AOR), and (3) getting authorized as an AOR by your organization. Details on these steps are outlined in the Grants.gov 3-Step Registration Guide (see http://www.grants.gov/assets/GrantsgovCoBrandBrochure8X11.pdf). You also must provide on your application the same D-U-N-S Number used with this registration. Please note that the registration process may take five or more business days to complete, and you must have completed all registration steps to allow you to successfully submit an application via Grants.gov.

• You will not receive additional point value because you submit your application in electronic format, nor will we penalize you if you qualify for an exception to the electronic submission requirement, as described elsewhere in this section, and submit your application in paper format.

• You must submit all documents electronically, including all information typically included on the Application for Federal Education Assistance (ED 424), Budget Information—Non-Construction Programs (ED 524), and all necessary assurances and certifications. You must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of Technical Issues with the Grants.gov System: If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system; and

• No later than two weeks before the application deadline date (14 calendar days or, if the fourteenth calendar day before the application deadline date falls on a Federal holiday, the next business day following the Federal holiday), you mail or fax a written statement to the Department, explaining which of the two grounds for an exception prevent you from using the Internet to submit your application. If you mail your written statement to the Department, it must be postmarked no later than two weeks before the application deadline date. If you fax your written statement to the Department, we must receive the faxed statement no later than two weeks before the application deadline date.

Address and mail or fax your statement to: Thelma Leenhouts, U.S. Department of Education, 400 Maryland Avenue, SW., room 4W302, Washington, DC 20202-5960. FAX: (202) 401-8466.

Your paper application must be submitted in accordance with the mail or hand delivery instructions described in this notice.

b. Submission of Paper Applications by Mail

If you qualify for an exception to the electronic submission requirement, you may mail (through the U.S. Postal Service or a commercial carrier) your application to the Department. You must mail the original and two copies of your application, on or before the application deadline date, to the Department at the applicable following address:

By mail through the U.S. Postal Service: U.S. Department of Education, Application Control Center, Attention: 84.350A, 84.350B, or 84.350C, 400 Maryland Avenue, SW., Washington, DC 20202-4260. or

By mail through a commercial carrier: U.S. Department of Education, Application Control Center—Stop 4260, Attention: 84.350A, 84.350B, or 84.350C, 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: 84.350A, 84.350B, or 84.350C, 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department:

(1) You must indicate on the envelope and—if not provided by the Department—in Item 4 of the ED 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

1. Selection Criteria: The selection criteria for this competition are from the statute for this program and § 75.210 of EDGAR and are listed in this section. The maximum score for all the selection criteria is 100 points. The maximum score for each criterion is indicated in parentheses. Each criterion also includes the factors that the reviewers will consider in determining how well an application meets the criterion. In addressing each criterion, applicants are encouraged to make explicit connections to relevant aspects of responses to other selection criteria.

The Notes we have included after each criterion are guidance to assist applicants in understanding the criterion as they prepare their applications and are not required by statute or regulation.

A. Significance of the Project (20 Points)

The Secretary considers the significance of the proposed project. In determining the significance of the proposed project, the Secretary considers the following factors:

(1) The significance of the problem or issue to be addressed by the proposed project.

(2) The likelihood that the proposed project will result in system change or improvement.

(3) The extent to which the proposed project involves the development or demonstration of promising new strategies that build on, or are alternatives to, existing strategies.

Note: The Secretary encourages applicants to address this criterion by identifying specific gaps and weaknesses in the services and infrastructure currently in place for the recruitment, preparation, placement, and retention of teachers and by stating how the proposed project will address these gaps and weaknesses. The Secretary encourages applicants to identify (1) current barriers that the high-need LEAs to be served by the project face in meeting their teacher recruitment needs, including, if relevant, barriers caused by existing State certification or licensure requirements, (2) why these barriers exist, and (3) how the project would significantly help those LEAs overcome these barriers.

Applicants are also encouraged to address this criterion by identifying the specific teacher-shortage areas faced by the participating high-need LEAs on which their proposed projects would focus. These may include such high-need subject areas as mathematics, science, special education, and English as a second language and particular grade levels, including middle and high schools. Applicants should understand that a project's strategy for helping participating high-need LEAs to identify and hire highly qualified individuals to fill teaching positions in high-need subjects may rely on existing alternative routes to certification, expansions of them into new areas, or creation of wholly new alternative routes.

B. Quality of the Project Design (35 Points)

The Secretary considers the quality of the project design for the proposed project by considering how well the applicant describes a plan—

(1) To develop a program to recruit and retain highly qualified mid-career professionals (including highly qualified paraprofessionals) and recent graduates of an IHE as teachers in high-need schools operated by high-need LEAs; and

(2) To enable individuals to become eligible for teacher certification under State-approved alternative routes to certification programs within a reduced period of time, relying on such factors as experience, expertise, and academic qualifications in lieu of traditional course work in education.

In considering the quality of the project design and the applicant's plan, the Secretary considers the following factors:

(a) The extent to which the goals, objectives, and outcomes to be achieved by the proposed project are clearly specified and measurable.

(b) The extent to which the design of the proposed project reflects up-to-date knowledge from research and effective practice.

(c) The extent to which the design of the proposed project is appropriate to, and will successfully address, the needs of the target population or other identified needs.

(d) The extent to which the proposed project is designed to build capacity and yield results that will extend beyond the period of Federal financial assistance.

Note: The Secretary encourages applicants to address this criterion by discussing the overall project model and its key components, and the degree to which the model's key components are based on sound research and practice. Applicants may want to address such key components of project design as:

(1) Recruitment and selection, including identifying the target group(s) on which the program will focus and why and how the program is designed to rigorously select participants with the requisite content knowledge, skills, and commitment to teach in high-need LEAs and schools.

(2) Training and preparation, including how the project provides a route to certification that is accelerated, integrates coursework and field experience, and is adapted to participants' learning needs.

(3) Mentoring and support, including services that are designed to meet the target participants' needs in terms of length, content, and means of delivery in order to be successful in high-needs schools and LEAs.

(4) Teacher placement, including evidence that the proposed project will meet the needs of high-need LEAs and is developed in coordination with appropriate partners, that the timing of placements will be appropriate to the needs of program participants, and that the project includes a system of tracking to meet statutory requirements.

(5) Certification, including consideration of how the timeline for achieving full certification will meet the needs of participants, LEAs, and partners, as well as the “Highly Qualified Teacher” requirements established in section 9101(23) of the ESEA.

In addition, applicants are encouraged to clarify the means by which the project's specified outcomes and benefits may be sustained once Federal funding has ended.

C. Quality of Project Services (20 Points)

In determining the quality of the services to be provided by the proposed project, the Secretary considers the following factors:

(1) The extent to which the services to be provided by the proposed project are appropriate to the needs of the intended recipients or beneficiaries of those services.

(2) The extent to which the training or professional development services to be provided by the proposed project are of sufficient quality, intensity, and duration to lead to improvements in practice among the recipients of those services.

(3) The extent to which the training or professional development services to be provided by the proposed project are likely to alleviate the personnel shortages that have been identified or are the focus of the proposed project.

(4) The extent to which the services to be provided by the proposed project involve the collaboration of appropriate partners for maximizing the effectiveness of project services.

Note: The Secretary encourages applicants to address this criterion by discussing how the proposed project services will meet the needs both of the high-need LEAs identified in the application and of the program participants they would recruit to become teachers. Applicants are encouraged to consult the list of authorized activities in section 2313(g) of the ESEA in describing the specific services to be delivered to recruit, prepare, and retain participants that will increase the number of highly qualified teachers in high-need schools in high-need LEAs. In addition, the Secretary encourages applicants to consider carefully the breadth of activities that section 2313(g) of the ESEA authorizes and then to address how the project will:

(1) Provide training that meets the learning needs of the participants and makes use of appropriate media (such as face-to-face and Web-based instruction, and distance learning) to provide them with the skills needed to be highly qualified and effective teachers in the identified high-need subject areas and high-needs schools and LEAs.

(2) Support project participants' success in high-need schools and LEAs during the period of their service obligation through individual mentoring, support of participants as a group, use of technology, or other appropriate means.

(3) Encourage the participation of all project partners, including school leaders, in providing services related to the recruitment, preparation, and retention of project participants and ensuring lasting benefits or outcomes. Applicants are encouraged to clarify the roles of partners in each phase of the project and the extent of coordination that will occur with similar efforts at the State and district levels. In addition, applicants are encouraged to consider how they might demonstrate (e.g., through narrative discussion, letters of support, or formal memoranda of understanding) the commitment of partners to the project and the partners' understanding of responsibilities they have agreed to assume in service delivery.

D. Quality of the Management Plan (10 Points)

In determining the quality of the management plan for the proposed project, the Secretary considers the adequacy of the management plan to achieve the objectives of the proposed project on time and within budget, including clearly defined responsibilities, timelines, and milestones for accomplishing project tasks.

Note: Section 75.112 of EDGAR requires an applicant for a multiyear grant to include a narrative that describes how and when, in each budget period of the project, the applicant plans to meet each project objective. The Secretary encourages applicants to address this criterion by including in this narrative a schedule of activities with sufficient time for developing an adequate implementation plan, as well as timelines for providing program participants the support they need in their initial years as teachers.

E. Quality of the Project Evaluation (15 Points)

The Secretary considers the quality of the evaluation to be conducted of the proposed project. In determining the quality of the evaluation to be conducted, the Secretary considers the following factors:

(1) The extent to which the methods of evaluation include the use of objective performance measures that are clearly related to the intended outcomes of the project and will produce quantitative and qualitative data to the extent possible.

(2) The extent to which the methods of evaluation will provide performance feedback and permit periodic assessment of progress toward achieving intended outcomes.

Note: The Secretary encourages applicants to address this criterion by including benchmarks to monitor progress toward specific project objectives and also outcome measures to assess the impact on teaching and learning or other important outcomes for project participants. (The specific performance measures established for the overall Transition to Teaching program are discussed under Performance Measures in section VI of this notice. Section 2314 of the ESEA also requires grantees to submit both an interim evaluation of the first three years of the grant and a final evaluation at the end of the grant.)

The Secretary also encourages applicants to identify the individual or organization that has agreed to serve as evaluator for the project and describe the qualifications of that evaluator. Finally, applicants are encouraged to indicate: (1) What types of data will be collected; (2) when various types of data will be collected; (3) what methods will be used; (4) what instruments will be developed and when; (5) how the data will be analyzed; (6) when reports of results and outcomes will be available; and (7) how the applicant will use the information collected through the evaluation to monitor progress of the funded project and to provide accountability information about both the success at the initial site or sites and effective strategies for replication in other settings. Applicants are encouraged to devote an appropriate level of resources to project evaluation.

2. Review and Selection Process: Additional information concerning our review and selection of grant applications in this competition are contained in the NFP.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: The Secretary requires successful applicants to submit annual performance reports and, after the last year of the project, a final report. The annual performance report documents the grantee's yearly progress toward meeting expected programmatic outcomes. These outcomes must be based on measurable performance objectives including, but not limited to, the performance measures described in paragraph 4 of this section. These reports must evaluate—

(1) The grantee's progress in meeting the application's objectives;

(2) The project's effectiveness in meeting the purposes of the Transition to Teaching program; and

(3) The project's effect on the specific LEAs the project serves.

Among other things, the Department uses the annual performance reports to determine whether a grantee has demonstrated substantial progress in meeting the goals and objectives (as described in its approved application), and thereby merits a continuation award (for years 2-5). See § 75.118 of EDGAR.

Grantees also will be required to submit a final performance report, due no later than 90 days after the end of the project period.

In addition, section 2314 of the ESEA requires grantees to submit to the Department and to the Congress interim and final evaluations at the end of the third and fifth years of the grant period, respectively. These evaluations must describe the extent to which high-need LEAs that received funds through the grant have met their goals relating to teacher recruitment and retention as described in the project application. Additional requirements pertaining to these reports are in the NFP.

For specific requirements on grantee reporting, please go to http://www/ed/gov/fund/grant/apply/appforms.html.

4. Performance Measures: The Secretary has established one performance indicator for assessing the effectiveness of the Transition to Teaching program: the percentage of new, highly qualified Transition to Teaching teachers who teach in high-need schools in high-need LEAs for at least three years. We will track this indicator through the use of the following three performance measures. We will gather the data for these measures from the grantees.

Measure One: The percentage of all Transition to Teaching participants who become teachers of record in high-need schools in high-need LEAs.

Measure Two: The percentage of Transition to Teaching participants receiving certification/licensure within three years.

Measure Three: The percentage of Transition to Teaching teachers of record who teach in high-need schools in high-need LEAs for at least three years.

VII. Agency Contacts

For Further Information Contact: Thelma Leenhouts, Gillian Cohen-Boyer, Beatriz Ceja, or Anthony Sepulveda, U.S. Department of Education, 400 Maryland Avenue, SW., room 4W318, Washington, DC 20202. Telephone: (202) 260-0223 (Thelma Leenhouts); (202) 401-2159 (Gillian Cohen-Boyer); (202) 260-3548 (202) 205-5009 (Beatriz Ceja); or (202) 260-0464 (Anthony Sepulveda). By e-mail: transitiontoteaching@ed.gov.

If you use a telecommunications device for the deaf (TDD), you may call the Federal Relay Service (FRS) at 1-800-877-8339.

Individuals with disabilities may obtain this document in an alternative format (e.g., Braille, large print, audiotape, or computer diskette) on request to the program contact persons listed in this section.

VIII. Other Information

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: January 20, 2006.
Christopher J. Doherty,
Acting Assistant Deputy Secretary for Innovation and Improvement.

[FR Doc. 06-763 Filed 1-25-06; 8:45 am]

BILLING CODE 4000-01-P